DEPARTMENT OF TRANSPORTATION

Federal Aviation Administration

Aviation Rulemaking Advisory Committee; Meeting

AGENCY: Federal Aviation Administration (FAA), DOT.

ACTION: Notice of Aviation Rulemaking Advisory Committee (ARAC) meeting.

SUMMARY: The FAA is issuing this notice to advise the public of a meeting of ARAC.

DATES: The meeting will be held on April 20, 2017, starting at 1:00 p.m. Eastern Standard Time. Arrange oral presentations by April 13, 2017.

ADDRESSES: The meeting will take place at the Federal Aviation Administration, 800 Independence Avenue SW., Washington, DC 20591, Conference Room 5 A-B-C. In addition, a phone bridge has been established for those wishing to participate by telephone.

FOR FURTHER INFORMATION CONTACT: Nikeita Johnson, Federal Aviation Administration, 800 Independence Avenue SW., Washington, DC 20591, telephone (202) 267-4977; fax (202) 267-5075; email Nikeita.Johnson@faa.gov.

SUPPLEMENTARY INFORMATION: Pursuant to Section 10(a)(2) of the Federal Advisory Committee Act (5 U.S.C. App. 2), we are giving notice of a meeting of the ARAC taking place on April 20, 2017, at the Federal Aviation Administration, 800 Independence Avenue SW., Washington, DC 20591. The purpose of this meeting is to consider one or more new ARAC tasks.

Improvement of regulations is a continuous focus for the Department. Accordingly, the Department regularly makes a conscientious effort to review its rules in accordance with the Department's 1979 Regulatory Policies and Procedures (44 FR 11034, February 26, 1979), Executive Order 12866, Executive Order 13563, and section 610 of the Regulatory Flexibility Act. Through two new Executive Orders, President Trump directed agencies to further scrutinize its regulations. On January 30, 2017, President Trump signed Executive Order 13771 titled “Reducing Regulation and Controlling Regulatory Costs (EO).” Under Section 2a of that Executive Order, unless prohibited by law, whenever an executive department or agency publicly proposes for notice and comment or otherwise promulgates a new regulation, it shall identify at least two existing regulations to be repealed.

In addition, on February 24, 2017, President Trump signed Executive Order 13777 titled “Enforcing the Regulatory Reform Agenda.” Under this Executive Order, each agency is required to establish a Regulatory Reform Task Force (RRTF) to evaluate existing regulations, and make recommendations for their repeal, replacement, or modification. As part of this process, the Department is directed to seek input/assistance from entities significantly affected by its regulations. Accordingly, the agenda for this ARAC meeting will be to task ARAC to consider (1) recommendations on existing regulations that are good candidates for repeal, replacement, or modification and (2) recommendations on regulatory action identified in FAA's Regulatory Agenda.

The ARAC will also consider the new task Flight Test Harmonization Working Group- Transport Airplane Performance and Handling Characteristics, Phase 3 that was on the agenda for the March 16, 2017, ARAC meeting. At that meeting, all discussions on new tasks were postponed to later ARAC meetings.

Attendance is open to the interested public but limited to the space available. Please confirm your attendance, either in person or by telephone, with the person listed in the FOR FURTHER INFORMATION CONTACT section no later than April 13, 2017. Please provide the following information: full legal name, country of citizenship, and name of your industry association, or applicable affiliation. If you are attending as a public citizen, please indicate so.

For persons participating by telephone, please contact the person listed in the FOR FURTHER INFORMATION CONTACT section by email or phone for the teleconference call-in number and passcode. Callers are responsible for paying long-distance charges.

The public must arrange by April 13, 2017, to present oral statements at the meeting. The public may present written statements to the Aviation Rulemaking Advisory Committee by providing 25 copies to the Designated Federal Officer, or by bringing the copies to the meeting.

If you are in need of assistance or require a reasonable accommodation for this meeting, please contact the person listed under the heading FOR FURTHER INFORMATION CONTACT. Sign and oral interpretation, as well as a listening device, can be made available if requested 10 calendar days before the meeting.

Issued in Washington, DC, on March 24, 2017.
Lirio Liu,
Designated Federal Officer, Aviation Rulemaking Advisory Committee.

[FR Doc. 2017-06295 Filed 3-29-17; 8:45 am]

BILLING CODE 4910-13-P